DEPARTMENT OF THE INTERIOR

Fish and Wildlife Service

[FWS-R5-R-2010-N266; BAC-4311-K9-S3]

Supawna Meadows National Wildlife Refuge, Salem County, NJ; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for Supawna Meadows National Wildlife Refuge (NWR), Salem County, New Jersey. In this final CCP, we describe how we will manage this refuge for the next 15 years.

ADDRESSES: You may view or obtain copies of the final CCP (including the FONSI) and the draft CCP/EA by any of the following methods. They are available in hard copy, CD-ROM, or as a download from our Web site.

Agency Web Site: Download a copy of the documents at http://www.fws.gov/northeast/planning/SupawnaMeadows/ccphome.html.

E-mail: northeastplanning@fws.gov. Include “Supawna Meadows NWR Final CCP” in the subject line of the message.

Mail: Brian Braudis, Refuge Manager, c/o Cape May NWR, 24 Kimbles Beach Road, Cape May Court House, NJ 08210.

In-Person Viewing or Pickup: Call 609-463-0994 to make an appointment during regular business hours at 24 Kimbles Beach Road, Cape May Court House, NJ 08210.

Local Library: See “Public Availability of Documents” under SUPPLEMENTARY INFORMATION.

FOR FURTHER INFORMATION CONTACT: Brian Braudis, Refuge Manager, 609-463-0994 (phone); capemaynwr@fws.gov (e-mail).

SUPPLEMENTARY INFORMATION:

Introduction

With this notice, we finalize the CCP process for Supawna Meadows NWR. We started this process through a notice in the Federal Register (72 FR 54280; September 24, 2007). We released the draft CCP and the EA to the public, announcing and requesting comments in a notice of availability in the Federal Register (75 FR 59287; September 27, 2010).

Supawna Meadows NWR currently includes 3,016 acres of marsh, grassland, shrubland, and forest habitats. The approved acquisition boundary encompasses 4,527 acres along the Upper Delaware Bay in Salem County. Supawna Meadows NWR was established to benefit migratory birds, breeding birds, and wild animals, protect natural resources, and provide opportunities for suitable wildlife-oriented recreation.

Refuge visitors engage in wildlife observation and photography, hunting, and fishing. Portions of the refuge are open to deer hunting, waterfowl hunting, and fishing and crabbing per State regulations. Finns Point Rear Range Light, listed on the National Register of Historic Places, draws a number of visitors as well.

We announce our decision and the availability of the FONSI for the final CCP for Supawna Meadows NWR in accordance with National Environmental Policy Act (NEPA) (40 CFR 1506.6(b)) requirements. We completed a thorough analysis of impacts on the human environment, which we included in the EA that accompanied the draft CCP.

The CCP will guide us in managing and administering Supawna Meadows NWR for the next 15 years. Alternative B, as we described in the draft CCP/EA as the Service-preferred alternative, with five modifications made in response to public comments, is the foundation for this final CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including Selected Alternative

To address several issues and develop a plan based on the purposes for establishing the refuge, and the vision and goals we identified, three alternatives were evaluated in our draft CCP/EA (75 FR 59287). The alternatives share some actions in common, such as acquiring land within the current refuge acquisition boundary, protecting cultural resources, distributing refuge revenue sharing payments, and monitoring water quality. There are also some actions shared by alternatives A and B only. These include assessing public use opportunities on newly acquired lands, monitoring and abating wildlife diseases, and supporting biological and ecological research investigations. Other actions distinguish the alternatives. The draft CCP/EA describes the alternatives in detail, and relates them to the issues and concerns.

Alternative A, “Current Management,” is the “No Action” alternative required by NEPA. It describes our existing management priorities and activities. It would maintain our present levels of refuge staffing and the biological and visitor programs now in place. We would continue to focus efforts on providing native tidal marsh habitat for Federal trust resources, in particular, for migrating and nesting wading birds, wintering habitats for marshbirds, waterfowl, shorebirds, and other wildlife. We would continue to actively manage tidal marsh and grassland habitats, and would maintain dikes and water levels on impoundments that have water control structures.

Alternative B, the “Service-preferred Alternative,” emphasizes management of specific refuge habitats to support Federal trust resources and species of conservation concern in the area, as well as providing additional visitor opportunities on the refuge. The priority would be to protect and restore the refuge's native tidal marsh habitat to benefit Pea Patch Island colonial-breeding wading birds, as well as secretive marshbirds, migratory waterfowl, shorebirds, and other birds of conservation concern. A secondary consideration would be to manage a diversity of other refuge wetland and upland habitats to benefit breeding and migrating songbirds, waterfowl, and raptors, as well as amphibians, reptiles, and mammals of conservation concern. Our Visitor Services program would be enhanced to provide more opportunities for wildlife observation, photography, hunting, fishing, environmental education, and interpretation.

Alternative C, “Cease Management and Close Refuge to Public Uses,” would close Supawna Meadows NWR to all public uses and cease all habitat management activities. There would be no funding allocated for any projects at the refuge. This alternative would only partially achieve the refuge purposes, vision, and goals, and respond to public issues. Cape May NWR staff would conduct semiannual site inspections requiring about 40 staff hours per year. We would continue to meet our trust obligations under the Federal Endangered Species Act, which requires us to take measures to benefit the recovery of any federally listed species that might be found on the refuge in the future. We would also continue to comply with the National Historic Preservation Act by maintaining Finns Point Rear Range Light.

Comments

We solicited comments on the draft CCP and the EA for Supawna Meadows NWR from September 27 to October 27, 2010 (75 FR 59287). We evaluated all substantive comments received during the public comment period, and included a summary of comments and our responses as appendix H of the final CCP.

Selected Alternative

We have selected alternative B for implementation, with the following modifications:

• We clarified the rationale for adopting the State's deer hunting safety zones.

• We added a paragraph stating we may evaluate black bear hunting on the refuge if the State opens the area to hunting and if there is enough interest.

• We inserted a paragraph stating that although we are not proposing to open the refuge to turkey hunting at this time, we are willing to discuss opening the refuge to a spring turkey season with assistance from the State.

• We added a Finding of Appropriateness for the release of the Rhinoncomimus latipes weevil by the New Jersey Department of Agriculture for the biological control of mile-a-minute weed (Polygonum perfoliatum).

• We updated the White-tailed Deer Hunt Compatibility Determination to include the State's deer hunting safety zones.

In summary, we believe modified alternative B combines the actions that would most effectively achieve refuge purposes, vision, and goals, and respond to public issues. The basis of our decision is detailed in Appendix I of the final CCP.

Public Availability of Documents

In addition to the methods in ADDRESSES, you can view or obtain documents at the following locations:

• Our Web site: http://www.fws.gov/northeast/planning/SupawnaMeadows/ccphome.html.

• Public Library: Pennsville Library, located at 14 North Broadway, Pennsville, NJ 08070, during regular library hours.

Dated: July 27, 2011.
Wendi Weber,
Acting Regional Director, Northeast Region, U.S. Fish and Wildlife Service, Hadley, MA 01035.

[FR Doc. 2011-22038 Filed 8-30-11; 8:45 am]

BILLING CODE 4310-55-P